DEPARTMENT OF THE INTERIOR

National Park Service

[NPS-WASO-NAGPRA-NPS0036100; PPWOCRADN0-PCU00RP14.R50000]

Notice of Inventory Completion: Texas Department of Transportation, Austin, TX

AGENCY: National Park Service, Interior.

ACTION: Notice.

SUMMARY: In accordance with the Native American Graves Protection and Repatriation Act (NAGPRA), the Texas Department of Transportation (TxDOT) has completed an inventory of human remains and associated funerary objects and has determined that there is a cultural affiliation between the human remains and associated funerary objects and Indian Tribes or Native Hawaiian organizations in this notice. The human remains and associated funerary objects were removed from Anderson County, TX.

DATES: Repatriation of the human remains and associated funerary objects in this notice may occur on or after August 2, 2023.

ADDRESSES: Scott Pletka, TxDOT, 6230 East Stassney Lane, Austin, TX 78701, telephone (512) 865-8694, email scott.pletka@txdot.gov.

SUPPLEMENTARY INFORMATION: This notice is published as part of the National Park Service's administrative responsibilities under NAGPRA. The determinations in this notice are the sole responsibility of TxDOT. The National Park Service is not responsible for the determinations in this notice. Additional information on the determinations in this notice, including the results of consultation, can be found in the inventory or related records held by TxDOT.

Description

In August and September of 2021, human remains representing, at minimum, three individuals were removed from site 41AN162 in Anderson County, TX, by archeologists working on behalf of TxDOT. A non-funerary pit feature yielded a lower right canine tooth belonging to an adult and a deciduous upper left central incisor tooth belonging to a juvenile. No associated funerary objects are present. An individual burial yielded one lower premolar, three lower molars, and four upper molars belonging to a juvenile. The 47 associated funerary objects are one possible Kiam Incised vessel, three unidentified plainware vessels, 41 incised and grog-tempered ceramic sherds, one piece of lithic debitage, and one liter of soil fill.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, and expert opinion.

Determinations

Pursuant to NAGPRA and its implementing regulations, and after consultation with the appropriate Indian Tribes and Native Hawaiian organizations, TxDOT has determined that:

• The human remains described in this notice represent the physical remains of three individuals of Native American ancestry.

• The 47 objects described in this notice are reasonably believed to have been placed with or near individual human remains at the time of death or later as part of the death rite or ceremony.

• There is a relationship of shared group identity that can be reasonably traced between the human remains and associated funerary objects described in this notice and the Caddo Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 2, 2023. If competing requests for repatriation are received, TxDOT must determine the most appropriate requestor prior to repatriation. Requests for joint repatriation of the human remains and associated funerary objects are considered a single request and not competing requests. TxDOT is responsible for sending a copy of this notice to the Indian Tribe identified in this notice.

Authority: Native American Graves Protection and Repatriation Act, 25 U.S.C. 3003, and the implementing regulations, 43 CFR 10.9, 10.10, and 10.14.

Dated: June 21, 2023.
Melanie O'Brien,
Manager, National NAGPRA Program.

[FR Doc. 2023-14074 Filed 6-30-23; 8:45 am]

BILLING CODE 4312-52-P